DEPARTMENT OF AGRICULTURE

Food Safety and Inspection Service

[Docket No. FSIS-2015-0003]

Notice of Request for a New Information Collection: Gathering Sessions for Safe Food Handling Instructions

AGENCY: Food Safety and Inspection Service, USDA.

ACTION: Notice and request for comments.

SUMMARY: In accordance with the Paperwork Reduction Act of 1995 and Office of Management and Budget (OMB) regulations, the Food Safety and Inspection Service (FSIS) is announcing its intention to request a new information collection for a survey of consumers about safe food handling instructions.

DATES: Submit comments on or before May 5, 2015.

ADDRESSES: FSIS invites interested persons to submit comments on this information collection. Comments may be submitted by one of the following methods:

• Federal eRulemaking Portal: This Web site provides the ability to type short comments directly into the comment field or attach a file for lengthier comments. Go to http://www.regulations.gov. Follow the on-line instructions at that site for submitting comments.

• Mail, including CD-ROMs, etc.: Send to Docket Clerk, U.S. Department of Agriculture, Food Safety and Inspection Service, Docket Clerk, Patriots Plaza 3, 1400 Independence Avenue SW., Mailstop 3782, Room 8-163A, Washington, DC 20250-3700.

• Hand- or courier-delivered submittals: Deliver to Patriots Plaza 3, 355 E Street SW., Room 8-163A, Washington, DC 20250-3700.

Instructions: All items submitted by mail or electronic mail must include the Agency name and docket number FSIS-2014-0003. Comments received in response to this docket will be made available for public inspection and posted without change, including any personal information, to http://www.regulations.gov.

Docket: For access to hard copies of background documents or comments received, you can visit the FSIS Docket Room at Patriots Plaza 3, 355 E Street SW., Room 8-164, Washington, DC 20250-3700 between 8:00 a.m. and 4:30 p.m., Monday through Friday.

FOR FURTHER INFORMATION CONTACT: Lee W. Puricelli, Program Analyst, Food Safety and Inspection Service, USDA, 1400 Independence Avenue SW., Room 6073, South Building, Washington, DC 20250.

SUPPLEMENTARY INFORMATION:

Title: Safe Food Handling Instructions Survey.

Type of Request: New information collection.

Abstract: The Food Safety and Inspection Service has been delegated the authority to exercise the functions of the Secretary of Agriculture (7 CFR 2.18, 2.53) as specified in the Federal Meat Inspection Act and the Poultry Products Inspection Act (21 U.S.C. 453 et. seq., 601 et seq.). FSIS protects the public by verifying that meat and poultry products are wholesome, not adulterated, and properly marked, labeled, and packaged.

The U.S. Department of Agriculture's Food Safety and Inspection Service's Office of Public Affairs and Consumer Education (USDA, FSIS, OPACE) ensures that all segments of the farm-to-table chain receive valuable food safety information. The consumer education programs developed by OPACE's Food Safety Education Staff informs the public on how to safely handle, prepare, and store meat, poultry, and egg products to minimize incidence of foodborne illness.

Safe-handling instructions are required on a product if the product's meat or poultry component is raw or partially cooked (i.e., not considered ready-to-eat) and if the product is destined for household consumers or institutional uses (9 CFR 317.2(l) [meat]; 9 CFR 381.125(b) [poultry]). FSIS conducted consumer focus groups to inform the design of the current safe-handling instructions in the regulations. Since the final safe handling rule became effective in 1994, the safe-handling instructions have not been revised.

In response to inquiries from consumer groups and other stakeholders for more information about potential changes to the safe-handling instructions regulations, FSIS sent a letter, in November 2013, to consumer groups, industry groups and academia posing questions about the current safe-handling instructions and how to revise them. The stakeholder comments supported the need for consumer testing of any changes to safe-handling instructions. FSIS presented a summary of the stakeholders suggestions to the National Advisory Committee on Meat and Poultry Inspection (NACMPI) in January 2014.

The feedback FSIS received from the NACMPI meeting echoed the stakeholders' emphasis of the necessity for consumer testing. In addition, NACMPI recommended that FSIS should consider requiring crucial endpoint temperatures on the label. The current safe-handling instructions use “Cook Thoroughly” as a simple, single statement appropriate to all products. This statement was used because, at the time of development, product label size limitations and many varying endpoint temperatures prevented an easy to understand label with endpoint cooking temperatures. Instead of multiple endpoint temperatures, FSIS now recommends only three internal minimal temperatures: one for all poultry (165 °F), one for ground red meat (160 °F), and one for all whole-muscle red meat (145 °F and hold for 3 minutes). With only three temperature recommendations, the endpoint temperature information could be more easily incorporated into the safe-handling instructions through rulemaking than when the current instructions were finalized in 1994. Other possible changes to the safe-handling instructions might include incorporating new icons developed and branded under USDA's Food Safe Families campaign and providing a Web link or phone number for more information on food safety.

The NACMPI Subcommittee on Food Handling Labels recommended that FSIS pursue changes in the existing safe-handling instructions in the regulations and conduct consumer testing to determine the effectiveness of any revisions to the instructions.

To inform decisions about possible modifications to the safe-handling instructions, FSIS is requesting approval for a new information collection to conduct consumer focus groups. These focus groups will help FSIS understand what information in the instructions could better enable consumers to safely handle and prepare raw and partially cooked meat and poultry at home.

FSIS has contracted with RTI International to conduct six consumer focus groups to gather information on consumers' understanding and use of the current safe-handling instructions and responses to possible revisions to the instructions. To provide geographic diversity, FSIS will conduct two focus groups in three different geographic locations each with two focus groups (for a total of six). Locations will be representative of three of the four main geographical areas of the country (East Coast, South, Midwest, and West Coast). In each location, FSIS will conduct one focus group with English-speaking adults and one focus group with Spanish-speaking adults. The focus groups will include individuals at-risk for foodborne illness (i.e., older adults, parents of young children, immunocompromised individuals or their caregivers) as well as from the general population as seen in Table 1.

Table 1—Focus Group Subpopulations
Group | Subpopulation | Language
1 | Parents of young children ᵃ | Spanish
2 | Immunocompromised ᵇ | English
3 | Older adults ᶜ | Spanish
4 | General population/less educated ᵈ | English
5 | General population/less educated ᵈ | Spanish
6 | Parents of young children a e | English
ᵃ Parents/caregivers of children aged 5 years old and younger, including pregnant women.
ᵇ Adults diagnosed with cancer, diabetes, or a condition that weakens the immune system or their adult caregiver.
ᶜ Adults aged 60 years or older.
ᵈ Adults aged 26 to 59 years old with a high school education or less.
ᵉ Adults with a college degree or higher.

Estimate of Burden: FSIS plans to screen 480 individuals to obtain no more than 60 focus group participants (10 participants per group). Each screening is expected to take 8 minutes (0.133 hour), and each focus group discussion is expected to last 1.45 hours. Before and after each group, participants will be asked to complete a short survey; each survey will take about 3 minutes (0.05 hour) to complete.

Respondents: Consumers.

Estimated No. of Respondents: 480.

Estimated No. of Annual Responses per Respondent: 1.

Estimated Total Annual Burden on Respondents: 157 hours.

Copies of this information collection assessment can be obtained from Gina Kouba, Paperwork Reduction Act Coordinator, Food Safety and Inspection Service, USDA, 1400 Independence, SW., Room 6077, South Building, Washington, DC 20250, (202)690-6510.

Comments are invited on: (a) Whether the proposed collection of information is necessary for the proper performance of FSIS's functions, including whether the information will have practical utility; (b) the accuracy of FSIS's estimate of the burden of the proposed collection of information, including the validity of the methodology and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How to File a Complaint of Discrimination

To file a complaint of discrimination, complete the USDA Program Discrimination Complaint Form, which is available online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.), should contact USDA's TARGET Center at (202) 720-2600 (voice and TDD).

Additional Public Notification

Public awareness of all segments of rulemaking and policy development is important. Consequently, FSIS will announce this Federal Register publication on-line through the FSIS Web page located at: http://www.fsis.usda.gov/federal-register.

FSIS also will make this Federal Register publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe.

Done at Washington, DC, on: March 3, 2015.
Alfred V. Almanza,
Acting Administrator.

[FR Doc. 2015-05334 Filed 3-5-15; 8:45 am]

BILLING CODE P